GENERAL SERVICES ADMINISTRATION

[FMR Bulletin—PBS-2012-03; Docket 2012-0002; Sequence 11]

Federal Management Regulation; FMR Bulletin PBS-2012-03; Redesignations of Federal Buildings: Correction

AGENCY: Public Buildings Service (PBS), General Services Administration (GSA).

ACTION: Notice of a bulletin; correction.

SUMMARY: The U.S. General Services Administration published in the Federal Register of June 13, 2012, a bulletin announcing the designation and redesignation of three Federal buildings. Inadvertently, the two-letter State “AL” was incorrectly identified with the city of Anchorage. This document corrects the abbreviation of the State of Anchorage to “AK”.

DATES: Effective Date: July 9, 2012.

FOR FURTHER INFORMATION CONTACT: U.S. General Services Administration, Public Buildings Service (PBS), 1800 F Street NW., Washington, DC 20405, telephone number: 202-501-1100.

SUPPLEMENTARY INFORMATION: The GSA published a document in the Federal Register of June 13, 2012, (77 FR 35393). Inadvertently, the two-letter State for the city Anchorage was identified incorrectly. This document corrects the abbreviation of the State for the city Anchorage to read “AK”.

Correction

In FR Doc. 2012-14416 published in the Federal Register at 77 FR 35393, June 13, 2012 make the following correction:

On page 35393, in the table, first and second columns, second entries, remove “Anchorage, AL” and add “Anchorage, AK” in their places.

Dated: June 21, 2012.
Dan Tangherlini,
Acting Administrator of General Services.

[FR Doc. 2012-16712 Filed 7-6-12; 8:45 am]

BILLING CODE 6820-23-P